POSTAL SERVICE

Temporary Emergency Committee of the Board of Governors; Sunshine Act Meeting

DATES AND TIMES: Thursday, May 9, 2019, at 11:00 a.m.; and Friday, May 10, 2019, at 9:00 a.m.

PLACE: Indianapolis, Indiana, at the Hyatt Regency Indianapolis Hotel, 1 South Capitol Avenue, Indianapolis, Indiana 46204, in the Cosmopolitan A Room.

STATUS: Thursday, May 9, 2019, at 11:00 a.m.-Closed; Friday, May 10, 2019, at 9:00 a.m.-Open.

MATTERS TO BE CONSIDERED:

Thursday, May 9, 2019, at 11:00 a.m. (Closed)

1. Strategic Issues.

2. Financial Matters.

3. Compensation and Personnel Matters.

4. Executive Session—Discussion of prior agenda items and Board governance.

Friday, May 10, 2019, at 9:00 a.m. (Open)

1. Remarks of the Chairman of the Temporary Emergency Committee of the Board.

2. Remarks of the Postmaster General and CEO.

3. Approval of Minutes of Previous Meetings.

4. Committee Reports.

5. Quarterly Financial Report.

6. Quarterly Service Performance Report.

7. Approval of Tentative Agenda for August meetings.

A public comment period will begin immediately following the adjournment of the open session on May 10, 2019. During the public comment period, which shall not exceed 30 minutes, members of the public may comment on any item or subject listed on the agenda for the open session above. Registration of speakers at the public comment period is required. Speakers may register online at https://www.surveymonkey.com/r/BOG-5-10-19. Onsite registration will be available until thirty minutes before the meeting starts. No more than three minutes shall be allotted to each speaker. The time allotted to each speaker will be determined after registration closes. Participation in the public comment period is governed by 39 CFR 232.1(n).

CONTACT PERSON FOR MORE INFORMATION: Acting Secretary of the Board, U.S. Postal Service, 475 L'Enfant Plaza SW, Washington, DC 20260-1000. Telephone: (202) 268-4800.

Michael J. Elston,
Acting Secretary.

[FR Doc. 2019-09247 Filed 5-1-19; 4:15 pm]

BILLING CODE 7710-12-P